POSTAL SERVICE

Privacy Act of 1974; System of Records

AGENCY: Postal Service™.

ACTION: Notice of modification to existing systems of records.

SUMMARY: The United States Postal Service® is proposing to modify seven General and Customer Privacy Act Systems of Records. These modifications are being made to account for updates to the system location, system manager(s) and address, and notification procedures due to an organizational re-design. Also included is the addition of previously omitted disclosure information, the removal of records not retained or which are outdated, the correction of retention times, and the additional disclosure of customs records. Lastly, a new system of records is included for the Judicial Officer.

DATES: The revision will become effective without further notice on October 15, 2012 unless comments received on or before that date result in a contrary determination.

ADDRESSES: Comments may be mailed or delivered to the Records Office, United States Postal Service, 475 L'Enfant Plaza SW., Room 9431, Washington, DC 20260-1101. Copies of all written comments will be available at this address for public inspection and photocopying between 8 a.m. and 4 p.m., Monday through Friday.

FOR FURTHER INFORMATION CONTACT: Jane Eyre, Manager, Records Office, 202-268-2608.

SUPPLEMENTARY INFORMATION: This notice is in accordance with the Privacy Act requirement that agencies publish their amended systems of records in the Federal Register when there is a revision, change, or addition. The Postal Service™ has reviewed its systems of records and has determined that these seven General and Customer Privacy Act Systems of Records should be revised to modify system location; categories of individuals covered by the system; categories of records in the system; authority of maintenance of the system; purpose; routine uses of records maintained in the system, including categories of users and the purposes of such uses; storage; retrievability; retention and disposal; system manager(s) and address; notification procedure; record access procedures; and record source categories.

I. Background

In 2011, the Postal Service began a significant management and organizational re-design. Many executive titles have been updated to reflect the new responsibilities of the leadership teams which resulted in changes to the location and custodian of the records.

The other system modifications reflect that some records may be provided to the Office of Government Information Services (OGIS) for the purpose of resolving disputes between FOIA requesters and federal agencies, including the Postal Service.

Updates are also being made to remove records no longer retained or which are out of date, the correction of retention times, and to clarify that agencies other than the Office of Foreign Assets Control (OFAC) may receive customs records.

Lastly, a new system of records is being added to account for information collected and stored by the Judicial Officer.

II. Rationale for Changes to USPS Privacy Act Systems of Records

In an ongoing organizational redesign, many managerial titles and responsibilities in the Postal Service™ have been revised to reflect changes in the structure of the organization. As a result, there is a continuing need to update the information concerning Privacy Act Systems of Records to reflect changes in the location, custodian, identity, or title of responsible officials.

The Postal Service is modifying a system of records to account for the previous omission of an accounting of disclosure when records may be provided to OGIS for the purpose of resolving disputes between FOIA requesters and federal agencies, including the Postal Service.

Furthermore, it is necessary to remove outdated information and to account for data not retained, and to update retention times according to program needs. Two systems of records are being amended to clarify that agencies outside of OFAC, such as the Bureau of Industry and Security, are involved in export control and may receive customs records.

Lastly, a new system of records is being added to account for information collected and stored by the Judicial Officer.

III. Description of Changes to Systems of Records

The Postal Service is modifying the seven systems of records listed below. Pursuant to 5 U.S.C. 552a(e)(11), interested persons are invited to submit written data, views, or arguments on this proposal. A report of the proposed modifications has been sent to Congress and to the Office of Management and Budget for their evaluation. The Postal Service™ does not expect this amended notice to have any adverse effect on individual privacy rights. The Postal Service proposes amending the systems as shown below:

USPS 500.200

System Name: Controlled Correspondence, FOIA, and Privacy Act Disclosure Records.

USPS 600.300

System Name: Public and Confidential Financial Disclosure Reports.

USPS 800.000

System Name: Address Change, Mail Forwarding, and Related Services.

USPS 810.200

System Name: www.usps.com Ordering, Payment, and Fulfillment.

USPS 880.000

System Name: Post Office and Retail Services.

USPS 900.000

System Name: Identity and Document Verification Services.

IV. Description of New System of Records

The United States Postal Service is adding a new system of records to its General Privacy Act Systems of Records Management System. This new system of records is being established to account for information being collected and stored by the Judicial Officer. The Postal Service proposes adding the system as shown below:

USPS 600.500

System Name: Judicial Officer Records.

Accordingly, the Postal Service proposes changes in existing systems of records and the addition of a new system of records as follows:

USPS 500.200

SYSTEM NAME:

Controlled Correspondence, FOIA, and Privacy Act Disclosure Records.

SYSTEM LOCATION:

[CHANGE TO READ]

Postmaster General, Government Relations, and Consumer and Industry Affairs offices, Headquarters; Office of the Inspector General, Law Department, Headquarters and field offices; records custodian offices at USPS Headquarters and field offices.

CATEGORIES OF INDIVIDUALS COVERED BY THE SYSTEM:

* * * * *

[CHANGE TO READ]

2. Individuals who have written to non-USPS government officials; congressmen and other government officials who write USPS on behalf of USPS customers, employees, or other individuals; and individuals to whom USPS announcements or greetings are regularly directed.

3. Individuals who submit inquiries and requests for information or records, including under the FOIA.

4. Individuals who submit inquiries or requests for information or records, or who contest a record, subject to the provisions of the Privacy Act and privacy complaints.

5. Individuals whose information is covered by a system of records that has been disclosed outside of the Postal Service.

CATEGORIES OF RECORDS IN THE SYSTEM:

[CHANGE TO READ]

1. Correspondence information: Records related to controlled correspondence including correspondent's name, address, nature of inquiry, response, and original correspondence. May include referral letters, email correspondence, internal memoranda, logs/notes of USPS staff and other related material.

2. Records Inquiries: Records related to individuals who request information, including under the FOIA or the Privacy Act, or who request amendment of a record, including name, Social Security Number, date of birth, nature of inquiry, original correspondence, response, and records from other systems of records compiled in response to the inquiry. May also include referral letters, email correspondence, internal memoranda, logs/notes of USPS staff and other related material. These files may also contain information or determinations furnished by and correspondence with other Federal agencies.

3. General Inquiries: Records related to inquiries or complaints concerning Postal Service records including correspondent's name, address, nature of inquiry, response, and original correspondence. May include referral letters, email correspondence, internal memoranda, logs/notes of USPS staff and other related material.

4. Accounting of disclosure records: The date, nature, and purpose of each disclosure of a Privacy Act covered record to any person or to another agency and the name and address of the person or agency to whom the disclosure is made.

AUTHORITY FOR MAINTENANCE OF THE SYSTEM:

[CHANGE TO READ]

39 U.S.C. 401, 410, and 412. 5 U.S.C. 552, as amended, 5 U.S.C. 552(a).

PURPOSE(S):

* * * * *

[CHANGE TO READ]

2. To respond to inquiries or complaints concerning Postal Service records and to requests for records and information, including FOIA and Privacy Act requests, and to comply with FOIA and Privacy Act disclosure accounting and reporting requirements. The records are also used to facilitate the preparation of statistical and other reports regarding use of the FOIA.

3. To comply with Privacy Act accounting of disclosure requirements.

ROUTINE USES OF RECORDS MAINTAINED IN THE SYSTEM, INCLUDING CATEGORIES OF USERS AND THE PRUPOSES OF SUCH USES:

* * * * *

[INSERT NEW TEXT]

b. Records may be provided to the Office of Government Information Services for the purpose of resolving disputes between FOIA requesters and Federal agencies, including the Postal Service, and reviewing Postal Service policies, procedures, and compliance in order to recommend policy changes to Congress and the President.

RETRIEVABILITY:

* * * * *

[INSERT NEW TEXT]

3. Accounting of disclosure records are retrieved by the name of the record's subject.

RETENTION AND DISPOSAL:

[CHANGE TO READ]

Correspondence records are retained 4 years. FOIA and Privacy Act-related records are cut off at the end of each fiscal or calendar year, respectively, and retained 6 years thereafter. Accounting of disclosure records are retained for five years or the life of the record, whichever is longer, after the disclosure for which the accounting is made. Records existing on paper are destroyed by burning, pulping, or shredding. Records existing on computer storage media are destroyed according to the applicable USPS media sanitization practice.

SYSTEM MANAGER(S) AND ADDRESS:

* * * * *

[CHANGE ORDER TO READ]

For FOIA and Privacy Act requests: General Counsel and Executive Vice President, 475 L'Enfant Plaza SW., Washington, DC 20260.

For other correspondence in this system: Vice President, Government Relations and Public Policy, United States Postal Service, 475 L'Enfant Plaza SW., Washington, DC 20260.

USPS 600.300

SYSTEM NAME:

Public and Confidential Disclosure Reports.

SYSTEM LOCATION:

[CHANGE TO READ]

USPS Headquarters, Ethics Office.

CATEGORIES OF RECORDS IN THE SYSTEM:

[CHANGE TO READ]

Employees required to file public or confidential financial disclosure reports, including the Postmaster General, Deputy Postmaster General, USPS Chief Ethics Officer, administrative law judges, the Governors of the Postal Service, and other USPS employees determined by regulation.

CATEGORIES OF RECORDS IN THE SYSTEM:

[CHANGE TO READ]

1. Public Financial Disclosure Report: Standard Form OGE Form 278 and supplemental statements including the individual's name, title, work location, employment status, personal financial records, and reports related thereto.

2. Executive Branch Personnel Confidential Financial Disclosure Report: Office of Government Ethics. OGE Form 450 and supplemental statements including the individual's name, title, work location, employment status, personal financial records, and reports related thereto.

SYSTEM MANAGER(S) AND ADDRESS:

Ethics Office, United States Postal Service, 475 L'Enfant Plaza SW., Washington, DC 20260.

NOTIFICATION PROCEDURE:

[CHANGE TO READ]

Individuals wanting to know if information about them is maintained in this system of records must address inquiries as follows: For all OGE Form 450 filers, to the Ethics Office, USPS Headquarters. For field and Headquarters OGE Form 278 filers, to the system manager.

RECORD ACCESS PROCEDURES:

[CHANGE TO READ]

Requests for access must be made in accordance with the Notification Procedure above and USPS Privacy Act regulations regarding access to records and verification of identity under 39 CFR 266.6. Requests for OGE Form 278 reports must be submitted using OGE Form 201.

USPS 800.000

SYSTEM NAME:

Address Change, Mail Forwarding, and Related Services.

CATEGORIES OF RECORDS IN THE SYSTEM:

[CHANGE TO READ]

1. Customer information: Name, title, signature, customer number, old address, new address, filing date, email address(es), telephone numbers and other contact information.

* * * * *

[CHANGE TO READ]

6. Records from service providers for identity verification.

[DELETE THE FOLLOWING TEXT]

7. Optional customer information: Information a customer chooses to save to apply to future transactions, such as names, addresses, proof of identification, billing, and other information used to request a service.

[RENUMBER REMAINING BULLETS]

* * * * *

AUTHORITY FOR MAINTENANCE OF THE SYSTEM:

[CHANGE TO READ]

39 U.S.C. 401(2), 403, and 404(a)(1).

PURPOSE:

[CHANGE TO READ]

1. To provide mail forwarding and change of address services, including local community information, and move related advertisements.

* * * * *

[DELETE THE FOLLOWING TEXT]

4. To support investigations related to law enforcement for fraudulent transactions.

[RENUMBER REMAINING BULLET]

* * * * *

ROUTINE USES OF RECORDS IN THE SYSTEM, INCLUDING CATEGORIES OF USERS AND THE PURPOSES OF SUCH USES:

* * * * *

[CHANGE TO READ]

h. Disclosure at Customer's Request. If the customer elects, change of address information may be disclosed to government agencies or other entities.

* * * * *

STORAGE

[CHANGE TO READ]

Records generated from the source document are recorded on the Forwarding Control System file server and on tapes at CFS units. Electronic change-of-address records and related service records are also stored on disk and/or magnetic tape in a secured environment. Change-of-address records are consolidated in a national change-of-address (NCOA) file at the USPS IT Eagan Host Computing Services Center. Selected extracts of NCOA are provided in the secure data format represented by the NCOALink product to a limited number of firms under contract or license agreement with USPS.

* * * * *

RETRIEVABILITY

* * * * *

[CHANGE TO READ]

For electronic records: By name, address, date, ZIP Code™, and customer number for electronic change of address and related service records; by name, address, and email address for customer service records.

RETENTION AND DISPOSAL

* * * * *

[CHANGE TO READ]

2. Delivery units access COA records from the Change-Of-Address Reporting System (COARS) database, which retains 2 years of information from the COA effective date. The physical change-of-address order is retained in the CFS unit for 30 days if it was scanned, or 18 months if it was manually entered into the national database.

* * * * *

SYSTEM MANAGER(S) AND ADDRESS:

[ADD TEXT]

Vice President, Product Information, United States Postal Service, 475 L'Enfant Plaza SW., Washington, DC 20260.

[CHANGE TO READ]

Vice President, Delivery and Post Office Operations, United States Postal Service, 475 L'Enfant Plaza SW., Washington, DC 20260.

* * * * *

RECORD SOURCE CATEGORIES:

[CHANGE TO READ]

Customers, personnel, contractors, service providers, and for call center operations, commercially available sources of names, addresses, and telephone numbers. For emergency change-of-addresses only, commercially available sources of names, previous addresses, and dates of birth. For alternative authentication, sources of names, previous and new addresses, dates of birth, and driver's state and license number.

USPS 810.200

SYSTEM NAME:

www.usps.com Ordering, Payment, and Fulfillment.

PURPOSE:

* * * * *

[CHANGE TO READ]

6. To satisfy reporting requirements for customs and export control purposes.

* * * * *

ROUTINE USES OF RECORDS IN THE SYSTEM, INCLUDING CATEGORIES OF USERS AND THE PURPOSE OF SUCH USES:

* * * * *

[CHANGE TO READ]

Records may be disclosed to the Office of Foreign Assets Control, the Bureau of Industry and Security, and other government authorities charged with enforcing export control laws, rules, and policies, including 50 U.S.C. 1702.

RETENTION AND DISPOSAL:

* * * * *

[ADD TEXT STARTING WITH NUMBER 2]

2. Customs declaration records stored in electronic data systems are retained 5 years, and then purged according to the requirement of domestic and foreign customs services. Other hard-copy customs declaration records are retained 30 days.

[CHANGE TO READ]

3. Other records related to shipping services and domestic and international labels are retained up to 90 days.

* * * * *

[RENUMBER REMAINING BULLETS AND CORRECT NUMBERING TO READ 1 THROUGH 8]

SYSTEM MANAGER(S) AND ADDRESS:

[CHANGE TO READ]

Chief Marketing/Sales Officer and Executive Vice President, United States Postal Service, 475 L'Enfant Plaza SW., Washington, DC 20260.

* * * * *

USPS 880.000

SYSTEM NAME:

Post Office and Retail Services.

SYSTEM LOCATION:

[CHANGE TO READ]

USPS Headquarters, Consumer and Industry Affairs; Integrated Business Solutions Services Centers; Accounting Service Centers; and USPS facilities, including Post Offices and contractor locations.

RETENTION AND DISPOSAL:

* * * * *

[CHANGE TO READ]

3. Domestic and international Extra Services records are retained 2 years. Records relating to Post Office boxes and caller services are retained up to 2 years after the customer relationship ends.

* * * * *

USPS 900.000

SYSTEM NAME:

International Services.

PURPOSE:

* * * * *

[CHANGE TO READ]

4. To satisfy reporting requirements for customs and export control purposes.

* * * * *

ROUTINE USES OF RECORDS IN THE SYSTEM, INCLUDING CATEGORIES OF USERS AND THE PURPOSE OF SUCH USES:

* * * * *

[CHANGE TO READ]

b. Records may be disclosed to the Office of Foreign Assets Control, the Bureau of Industry and Security, and other government authorities charged with enforcing export control laws, rules, and policies, including 50 U.S.C. 1702.

* * * * *

RETENTION AND DISPOSAL:

[CHANGE TO READ]

1. Customs declaration records stored in electronic data systems are retained 5 years, and then purged according to the requirements of domestic and foreign customs services.

2. Other customs declaration records are retained 30 days.

* * * * *

[ADD NEW TEXT/SYSTEM OF RECORD]

USPS 600.500

SYSTEM NAME:

Judicial Officer Records.

SYSTEM LOCATION:

Judicial Officer Department, USPS Headquarters Library

CATEGORIES OF INDIVIDUALS COVERED BY THE SYSTEM:

1. Persons identified in proceedings before, and decisions of, the U.S. Postal Service Judicial Officer Department; including complainants, respondents, petitioners, and disputants and their representatives.

CATEGORIES OF RECORDS IN THE SYSTEM:

1. Initial and Final Decisions Provided for public posting on USPS.com: Initial and Final Decisions that have been reviewed for inclusion of Social Security Numbers or equivalent non-publicly-available personally identifiable information and redacted as required before being furnished for posting and public availability on the U.S. Postal Service public Web site, www.usps.com.

2. Judicial Officer Department Administrative Decision-related information: Records related to persons identified as parties (or their representatives) in published Judicial Officer Administrative Decisions, including name and such information as: Date of birth, Social Security Number (SSN), Employee Identification Number, organizational and employee affiliations, work-related and/or personal mailing addresses, email addresses, and phone number(s) as well as additional identity verification information.

3. Judicial Officer Department Administrative Proceedings-related information: Records related to persons identified as parties (or their representatives) in Judicial Officer proceedings that do not lead to published decisions, including name and such information as: Date of birth, Social Security Number (SSN), Employee Identification Number, organizational and employee affiliations, work-related and/or personal mailing addresses, email addresses, and phone number(s) as well as additional identity verification information; details of circumstances described in the proceedings documentation, including business names, addresses, activities, and any relevant or explanatory details provided to the Judicial Officer Department.

AUTHORITY FOR MAINTENANCE OF THE SYSTEM:

39 U.S.C. 204; 39 CFR parts 951, 952, 953, 954, 957, 958, 959, 960, 961, 962, 963, 964, 965, and 966.

PURPOSE(S):

1. To enable USPS Judicial Officer Department Administrative proceedings.

2. To make Initial and Final USPS Judicial Officer Department Administrative Decisions available to the public.

ROUTINE USES OF RECORDS MAINTAINED IN THE SYSTEM, INCLUDING CATEGORIES OF USERS AND THE PURPOSES OF SUCH USES:

Standard routine uses 1. through 11. apply.

a. Initial and Final Judicial Officer Department Administrative Decisions are made available to the public (after redaction of Social Security Numbers or equivalent non-publicly-available personally identifiable information) on the U.S. Postal Service public Web site, www.usps.com.

b. Records provided in the course of litigation at the request of any party to a pending or completed proceeding are considered Disclosures Incident to Legal Proceedings.

c. Records presented or displayed or otherwise disclosed during the course of a public hearing conducted in connection with any Judicial Officer Department are considered Disclosures Incident to Legal Proceedings. Requests can be made that any specifically confidential records be reviewed only in camera and kept under seal.

POLICIES AND PRACTICES FOR STORING, RETRIEVING, ACCESSING, RETAINING, AND DISPOSING OF RECORDS IN THE SYSTEM:

STORAGE:

Automated database, computer storage media, and paper. Initial and Final USPS Judicial Officer Department Administrative Decisions are stored in online formats on USPS.com.

RETRIEVABILITY:

By individual name, USPS docket number; or by USPS designation of applicable 39 U.S.C. Part number; Initial and Final USPS Judicial Officer Administrative Decisions (after redaction of Social Security Numbers or equivalent non-publicly-available personally identifiable information) may be retrieved on USPS.com by year, party name, docket number, or by use of full text searches.

SAFEGUARDS:

Paper records, computers, and computer storage media are located in controlled-access areas under supervision of program personnel. Access to these areas is limited to authorized personnel. Unsupervised access to records is limited to individuals whose official duties require such access. Computers are protected by mechanical locks, card key systems, or other physical access control methods. The use of computer systems is regulated with installed security software, computer logon identifications, and operating system controls including access controls, terminal and transaction logging, and file management software.

RETENTION AND DISPOSAL:

1. Judicial Officer Department Administrative Proceedings records are retained for 20 years.

2. Judicial Officer Initial and Final Administrative Decisions are retained indefinitely.

3. Initial and Final Administrative Decisions furnished for posting and public availability on the U.S. Postal Service public Web site, www.usps.com, are retained indefinitely.

Records existing on paper are destroyed by burning, pulping, or shredding. Records existing on computer storage media are destroyed according to the applicable USPS media sanitization practice.

SYSTEM MANAGER(S) AND ADDRESS:

Judicial Officer, United States Postal Service, 2101 Wilson Boulevard, Suite 600, Arlington, VA 22201-3078.

NOTIFICATION PROCEDURE:

Individuals wanting to know if information about them is maintained in this system of records must address inquiries to the system manager, and provide the following information: The full name of the subject individual; and, if applicable and known, the names of complainants, respondents, petitioners, disputants, and/or their representatives, and the dates of decisions, or proceedings.

RECORD ACCESS PROCEDURES:

Requests for access must be made in accordance with the Notification Procedure above and USPS Privacy Act regulations regarding access to records and verification of identity under 39 CFR 266.6.

CONTESTING RECORD PROCEDURE:

See Notification Procedure and Record Access Procedures above.

RECORD SOURCE CATEGORIES:

Subject individuals; their counsel or other representatives; postal inspectors; Prohibitory Order Processing Center personnel; members of the Judicial Officer Department; attorneys for USPS; attorneys for mailers; witnesses; postmasters; and persons identified in proceedings and decisions of the U.S. Postal Service Judicial Officer Department.

SYSTEMS EXEMPTED FROM CERTAIN PROVISIONS OF THE ACT:

Records in this system that have been compiled in reasonable anticipation of a civil action or proceeding are exempt from individual access as permitted by 5 U.S.C. 552a(d)(5). The USPS has also claimed exemption from certain provisions of the Act for several of its other systems of records at 39 CFR 266.9. To the extent that copies of exempted records from those other systems are incorporated into this system, the exemptions applicable to the original primary system continue to apply to the incorporated records.

* * * * *

Stanley F. Mires,
Attorney, Legal Policy & Legislative Advice.

[FR Doc. 2012-22511 Filed 9-12-12; 8:45 am]

BILLING CODE 7710-12-P